DEPARTMENT OF COMMERCE

International Trade Administration

[C-570-041]

Truck and Bus Tires From the People's Republic of China: Final Results of Countervailing Duty Administrative Review; 2022

AGENCY: Enforcement and Compliance, International Trade Administration, Department of Commerce.

SUMMARY: The U.S. Department of Commerce (Commerce) determines that certain producers and exporters of truck and bus tires from the People's Republic of China (China) received countervailable subsidies during the period of review (POR) January 1, 2022, through December 31, 2022.

DATES: Applicable May 15, 2024.

FOR FURTHER INFORMATION CONTACT: Ted Pearson, AD/CVD Operations, Enforcement and Compliance, International Trade Administration, U.S. Department of Commerce, 1401 Constitution Avenue NW, Washington, DC 20230; telephone: (202) 482-2631.

SUPPLEMENTARY INFORMATION:

Background

On February 13, 2024, Commerce published in the Federal Register the Preliminary Results of the 2022 administrative review of the countervailing duty order on truck and bus tires from China.¹ From March 12 to March 13, 2024, we conducted verification of the export buyer's credit program at the premises of Qingdao Ge Rui Da Rubber Co., Ltd.'s (GRT) affiliated importer, The Goodyear Tire and Rubber Company.² Subsequently, on March 22, 2024, we invited interested parties to comment on the Preliminary Results and verification.³ For a complete description of the events that occurred since the Preliminary Results, see the Issues and Decision Memorandum.⁴ Commerce conducted this review in accordance with section 751(a)(1)(A) of the Tariff Act of 1930, as amended (the Act).

¹ See Truck and Bus Tires from the People's Republic of China: Preliminary Results of Countervailing Duty Administrative Review and Rescission of Review in Part, 2022, 89 FR 10034 (February 13, 2024) (Preliminary Results), and accompanying Preliminary Decision Memorandum (PDM).

² See Memorandum, “Verification of the Export Buyer's Credit Questionnaire Responses of Qingdao Ge Rui Da Rubber Co., Ltd.,” dated March 21, 2024 (Verification Report).

³ See Commerce's Letter, “Briefing Schedule,” dated March 22, 2024.

⁴ See Memorandum, “Decision Memorandum for the Final Results of the Countervailing Duty Administrative Review of Truck and Bus Tires from the People's Republic of China; 2022,” dated concurrently with, and hereby adopted by, this notice (Issues and Decision Memorandum).

Scope of the Order

The products covered by the order are truck and bus tires from China. For a full description of the scope of the order, see the Issues and Decision Memorandum.

Analysis of Comments Received

All issues raised by the interested parties in their case and rebuttal briefs are addressed in the Issues and Decision Memorandum. The topics discussed and the issues raised by parties to which we responded in the Issues and Decision Memorandum are listed in the appendix to this notice. The Issues and Decision Memorandum is a public document and is on file electronically via Enforcement and Compliance's Antidumping and Countervailing Duties Centralized Electronic Service System (ACCESS). ACCESS is available to registered users at https://access.trade.gov. In addition, a complete version of the Issues and Decision Memorandum can be accessed directly at https://access.trade.gov/public/FRNoticesListLayout.aspx.

Changes Since the Preliminary Results

Based on comments received from interested parties, we made certain changes to the calculations of GRT's benefits for two programs: (1) government policy lending; and (2) compensation of land resettlement. For a discussion of these changes, see the Issues and Decision Memorandum.

Methodology

Commerce conducted this administrative review in accordance with section 751(a)(1)(A) of the Act. For each of the subsidy programs found countervailable, we determine that there is a subsidy, i.e., a government-provided financial contribution that gives rise to a benefit to the recipient, and that the subsidy is specific.⁵ For a full description of the methodology underlying Commerce's conclusions, including any determination that relied upon the use of adverse facts available (AFA) pursuant to sections 776(a) and (b) of the Act, see the Issues and Decision Memorandum.

⁵ See sections 771(5)(B) and (D) of the Act regarding financial contribution; section 771(5)(E) of the Act regarding benefit; and section 771(5A) of the Act regarding specificity.

Final Results of the Administrative Review

We find the following net countervailable subsidy rates for the period January 1, 2022, through December 31, 2022:

⁶ As discussed in the Preliminary Results PDM, Commerce has found the following companies to be cross-owned with Qingdao Ge Rui Da Tire Company: Cooper Tire (China) Investment Co. Ltd.; Cooper Tire Asia-Pacific (Shanghai) Trading Co., Ltd.; Qingdao Yiyuan Investment Co., Ltd.; Goodyear Dalian Tire Company Limited; and Goodyear Tire Management Company (Shanghai) Ltd.

Producer/exporter | Subsidy rate (percent ad valorem)
Jiangsu General Science Technology Co., Ltd | 124.00
Qingdao Ge Rui Da Rubber Co., Ltd.⁶ | 10.16

Disclosure

We intend to disclose the calculations and analysis performed for these final results of review within five days after the date of publication of this notice in the Federal Register in accordance with 19 CFR 351.224(b).

Assessment

In accordance with section 751(a)(2)(C) of the Act and 19 CFR 351.212(b)(2), Commerce shall determine, and U.S. Customs and Border Protection (CBP) shall assess, countervailing duties on all appropriate entries covered by this review. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce also intends to instruct CBP to collect cash deposits of estimated countervailing duties in the amounts shown for the companies listed above for shipments of subject merchandise entered, or withdrawn from warehouse, for consumption on or after the date of publication of the final results of this administrative review. For all non-reviewed firms, we will instruct CBP to continue to collect cash deposits of estimated countervailing duties at the all-others rate or the most recent company-specific rate applicable to the company, as appropriate. These cash deposit requirements, when imposed, shall remain in effect until further notice.

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a violation subject to sanction.

Notification to Interested Parties

The final results are issued and published in accordance with sections 751(a)(1) and 777(i)(1) of the Act, and 19 CFR 351.221(b)(5).

Dated: May 9, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Subsidies Valuation

V. Use of Facts Otherwise Available and Adverse Inferences

VI. Analysis of Programs

VII. Discussion of the Issues

Comment 1: Whether the Provision of Inputs for Less Than Adequate Remuneration (LTAR) Constitutes a Financial Contribution

Comment 2: Whether the Provision of Electricity for LTAR Is Countervailable

Comment 3: Whether Commerce Appropriately Found that the Provision of Land-Use Rights for LTAR Constitutes a Financial Contribution

Comment 4: Whether Commerce Should Revise the Calculations for Government Policy Lending

Comment 5: Whether Commerce Should Revise the Calculations for the Compensation of Land Resettlement

Comment 6: Whether Commerce Should Select a Different Benchmark for Recycled Synthetic Rubber

VIII. Recommendation

[FR Doc. 2024-10644 Filed 5-14-24; 8:45 am]

BILLING CODE 3510-DS-P